DEPARTMENT OF ENERGY

Federal Energy Regulatory Commission

Notice of FERC Staff Attendance at Southwest Power Pool Annual Members Meeting and Meetings of Southwest Power Pool Board of Directors/Members Committee, Southwest Power Pool Market & Operations Policy Committee, and Southwest Power Pool Regional State Committee

September 18, 2006.

The Federal Energy Regulatory Commission hereby gives notice that members of its staff may attend the meetings of the Southwest Power Pool (SPP) Board of Directors/Members Committee, SPP Markets & Operations Policy Committee, and SPP Regional State Committee noted below. Their attendance is part of the Commission's ongoing outreach efforts.

Board of Directors/Members Committee: September 29, 2006 (10 a.m.-3 p.m. CDT), Sheraton Grand Hotel DFW, 4440 West John Carpenter Freeway, Irving, TX 75063; 972-929-8400.

Markets & Operations Policy Committee: October 10-11, 2006 (1 p.m.-5 p.m. and 8 a.m.-3 p.m. CDT), Marriott Tulsa Southern Hills, 1902 East 71st St., Tulsa, OK 74136; 918-493-7000.

SPP Regional State Committee: October 23, 2006 (1 p.m.-5 p.m. CDT), DoubleTree Hotel at Warren Place, 6110 South Yale Ave., Tulsa, OK 74136; 918-495-1000.

Board of Directors/Members Committee and Annual Members Meeting: October 24, 2006 (8:30 a.m.-3 p.m. CDT), DoubleTree Hotel at Warren Place, 6110 South Yale Ave., Tulsa, OK 74136; 918-495-1000.

The discussions may address matters at issue in the following proceedings:

Docket No. ER05-799, Southwest Power Pool, Inc.

Docket No. ER05-526, Southwest Power Pool, Inc.

Docket No. ER05-106, Entergy Services, Inc.

Docket No. ER05-1416, Southwest Power Pool, Inc.

Docket No. ER06-15, Southwest Power Pool, Inc.

Docket No. ER06-432, Southwest Power Pool, Inc.

Docket No. ER06-448, Southwest Power Pool, Inc.

Docket No. ER06-451, Southwest Power Pool, Inc.

Docket No. ER06-641, Southwest Power Pool, Inc.

Docket No. ER06-729, Southwest Power Pool, Inc.

Docket No. ER06-767, Southwest Power Pool, Inc.

Docket No. ER06-1467, Southwest Power Pool, Inc.

Docket No. EC06-46, Southwest Power Pool, Inc.

Docket Nos. EL06-61 and EL06-71, Associated Electric Cooperative, Inc. v. Southwest Power Pool.

These meetings are open to the public.

For more information, contact Tony Ingram, Office of Energy Markets and Reliability, Federal Energy Regulatory Commission at (501) 614-4789 or tony.ingram@ferc.gov.

Magalie R. Salas,
Secretary.

[FR Doc. E6-15667 Filed 9-22-06; 8:45 am]

BILLING CODE 6717-01-P